DEPARTMENT OF TRANSPORTATION

Federal Motor Carrier Safety Administration

[Docket No. FMCSA-2006-26367]

Motor Carrier Safety Advisory Committee (MCSAC); Public Meeting

AGENCY: Federal Motor Carrier Safety Administration (FMCSA), DOT.

ACTION: Notice of advisory committee meeting.

SUMMARY: FMCSA announces that its MCSAC will meet on Monday and Tuesday, July 30-31, 2018.

DATES: The meeting will be held Monday-Tuesday, July 30-31, 2018, from 9:15 a.m. to 4:30 p.m., Eastern Daylight Time (EDT).

ADDRESSES: This meeting will be held at the U.S. Department of Transportation, Oklahoma City Rooms A, B, and C, 1200 New Jersey Avenue SE, Washington, DC 20590. Copies of the MCSAC Task Statements and an agenda for the entire meeting will be made available in advance of the meeting at https://www.fmcsa.dot.gov/mcsac.

FOR FURTHER INFORMATION CONTACT: Ms. Shannon L. Watson, Senior Advisor to the Associate Administrator for Policy, Federal Motor Carrier Safety Administration, U.S. Department of Transportation, at (202) 385-2395, or via email at mcsac@dot.gov.

Services for Individuals with Disabilities: For information on facilities or services for individuals with disabilities or to request special assistance at the meeting, contact Ms. Watson by Wednesday, July 18, 2018.

SUPPLEMENTARY INFORMATION:

I. Background

Purpose of the Committee

MCSAC was established to provide FMCSA with advice and recommendations on motor carrier safety programs and motor carrier safety regulations. MCSAC is composed of up to 20 voting representatives from safety advocacy, safety enforcement, labor, and industry stakeholders of motor carrier safety. The diversity of the Committee ensures the requisite range of views and expertise necessary to discharge its responsibilities. The Committee operates as a discretionary committee under the authority of the U.S. Department of Transportation (DOT), established in accordance with the provisions of the Federal Advisory Committee Act (FACA), as amended, 5 U.S.C. App. 2. See FMCSA's MCSAC website for additional information about the committee's activities at https://www.fmcsa.dot.gov/mcsac.

Meeting Agenda

The MCSAC will complete its deliberations from June 2017 and provide recommendations to the Agency concerning automated driving systems (ADS)-equipped commercial motor vehicles (CMVs), the development of the Agency's fiscal year (FY) 2018-2022 strategic plan, and the review of the Federal Motor Carrier Safety Regulations (FMCSRs) to identify potential opportunities to reduce regulatory burdens while ensuring that Federal safety programs continue to achieve safety outcomes.

Task 17-1: Automated Driving Systems Equipped CMVs

On September 12, 2017, the Department published the Automated Driving Systems (ADS): A Vision for Safety 2.0. (Publication No. DOT HS 812-442, https://www.nhtsa.gov/sites/nhtsa.dot.gov/files/documents/13069a-ads2.0_090617_v9a_tag.pdf) (the Voluntary Guidance). On March 1, 2018, the Secretary convened an Automated Vehicle summit, which included a Public Listening Summit on Automated Vehicles Policy to seek input on Automated Vehicles 3.0 (https://www.transportation.gov/AV/avsummit). Automated driving systems (ADS) equipped CMVs are those in which the vehicle can take full control of the driving tasks in at least some circumstances. ADS hold enormous potential benefits for safety, mobility, and the efficiency of our transportation system.

The Voluntary Guidance adopts the SAE International (SAE) published Standard J3016, “Taxonomy and Definitions for Terms Related to On-Road Motor Vehicle Automated Driving Systems” definitions for levels of automation. The SAE definitions divide vehicles into levels based on “who does what, when.” Generally:

• SAE Level 0, No Driving Automation; the driver performs all driving tasks.

• SAE Level 1, Driver Assistance; the vehicle is controlled by the driver but some driving assist features may be included in the vehicle design. SAE Level 2, Partial Driving Automation; the vehicle has combined automated functions, like acceleration and steering, but the driver must remain engaged with the driving task and monitor the environment at all times.

• SAE Level 3, Conditional Driving Automation; the driver is a necessity but is not required to monitor the environment. The driver must be ready to take control of the vehicle at all times with notice. SAE Level 4, High Driving Automation; the vehicle can perform all driving functions under certain conditions. The driver may have the option to control the vehicle. SAE Level 5, Full Driving Automation; the vehicle can perform all driving functions under all conditions.

Using the SAE levels described above, the Department draws a distinction between Levels 0-2 and 3-5 based on whether the human driver or the automated system is primarily responsible for monitoring the driving environment. The term “automated vehicle systems” represents SAE Levels 3-5 vehicles that are responsible for monitoring the driving environment. For this task, the Agency's primary focus is SAE Levels 3-5 ADS, as delineated in its Federal Register notice of March 26, 2018, Request for Comments Concerning FMCSRs Which May Be a Barrier to the Safe Testing and Deployment of ADS-Equipped CMVs on Public Roads (https://federalregister.gov/d/2018-05788). The comment period closed on May 10, 2018.

Public discussions regarding ADS have become more prominent in recent months as developers continue efforts to demonstrate and test the viability of advanced driver assistance systems on large commercial vehicles. FMCSA encourages the development of these advanced safety technologies for use on commercial vehicles, while recognizing the need to work with the States to ensure that, from an operations standpoint, all testing and use of these advanced safety systems is conducted in a manner that ensures the safe operation of ADS-equipped CMVs.

FMCSA tasked the MCSAC in June 2017 with providing recommendations regarding the framework for considering temporary exemptions that entities may seek to operate an ADS-equipped CMV on a public roadway.

Task 17-2: FY 2018-2022 Strategic Plan

FMCSA is drafting a new strategic plan for release in 2018. The new strategic plan will provide a high-level overview of our mission, vision, strategic goals and outlook for FY2018-2022 based on Department's goals for the next several years. The Department released its Strategic Plan for FY 2018-2022 in February 2018 (https://www.transportation.gov/dot-strategic-plan). The MCSAC has been tasked with providing feedback on the current FMCSA strategic goals and objectives and recommendations for additional goals, objectives, programs, and initiatives that the members believe should be highlighted in the next strategic plan to align with DOT's plan.

Task 17-3: Regulatory Review

In June 2017, FMCSA tasked the MCSAC with providing recommendations to the Agency concerning implementation of Executive Orders 13771, “Reducing Regulation and Controlling Regulatory Costs” (82 FR 9339, February 3, 2017) and 13777, “Enforcing the Regulatory Reform Agenda” (82 FR 12285, March 1, 2017). The Agency requests that the MCSAC identify regulations that it believes to be (1) outdated, unnecessary, or ineffective or (2) impose costs that exceed benefits. The MCSAC's recommendations would be based on the members' understanding of the regulatory requirements, how the rules have been implemented by the industry and enforcement officials, and crash, injury, and fatality data. FMCSA will provide technical assistance to the MCSAC members, as needed.

II. Meeting Participation

The meeting will be open to the public for its entirety. Oral comments from the public will be heard throughout the meeting, at the discretion of the MCSAC chairman and designated federal officer. Members of the public may submit written comments on the topics to be considered during the meeting by Wednesday, July 18, 2018, to Federal Docket Management System (FDMC) Docket Number FMCSA-2006-26367 using any of the following methods:

• Federal eRulemaking Portal: Go to http://www.regulations.gov. Follow the online instructions for submitting comments.

• Fax: 202-493-2251.

• Mail: Docket Management Facility; U.S. Department of Transportation, 1200 New Jersey Avenue SE, Room W12-140, Washington, DC 20590.

• Hand Delivery: U.S. Department of Transportation, 1200 New Jersey Avenue SE, West Building, Room W12-140, Washington, DC, between 9 a.m. and 5 p.m., ET Monday through Friday, except Federal holidays.

Issued on: June 21, 2018.
Larry W. Minor,
Associate Administrator for Policy.

[FR Doc. 2018-14029 Filed 6-28-18; 8:45 am]

BILLING CODE 4910-EX-P